DEPARTMENT OF JUSTICE

Antitrust Division

Notice Pursuant to the National Cooperative Research and Production Act of 1993—International Imaging Industry Association, Inc.

Notice if hereby given that, on September 17, 2004, pursuant to section 6(a) of the National Cooperative Research and Production Act of 1993, 15 U.S.C. 4301 et seq. (“the Act”), International Imaging Industry Association, Inc. (“I3A”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: International Imaging Industry Association, Inc., Harrison, NY. The nature and scope of I3A's standards development activities are: (a) To promote the standardization of imaging products and service and methods of testing or rating the performance thereof; (b) to sponsor, actively participate in, and support the creation of one or more imaging standards and/or protocols to enable manufacturers, developers, and providers of various devices, software and services to achieve interoperability; (c) to collect and disseminate information of value of manufacturers, sellers and consumers of imaging products, and otherwise to further the manufacturer, sale or use of imaging products and services; (d) to act as the industry voice, appearing before and cooperating with legislative committees, agencies, and government bodies in conjunction with matters affecting the imaging industry; (e) to drive adoption of standards and initiatives through a variety of promotional efforts, including but not limited to marketing activities, development of proof of concept/feasibility demonstrations, and pilot/prototype or testing projects; (f) to promote and encourage a wider understanding and appreciation of imaging, the imaging arts and a greater use of imaging products and services; (g) to further friendly and cordial relations among manufacturers, developers, and providers of imaging products and services, and between such vendors and the sellers and consumers of their products; and (h) to undertake such other activities as may from time to time be appropriate to further the purposes and achieve the goals set forth above.

Dorothy B. Fountain,
Deputy Director of Operations, Antitrust Division.

[FR Doc. 04-25857 Filed 11-19-04; 8:45 am]

BILLING CODE 4410-11-M